DEPARTMENT OF ENERGY

Federal Energy Regulatory Commission

[Project No. 2622-013]

Notice Soliciting Scoping Comments: Turners Falls Hydro, LLC

Take notice that the following hydroelectric application has been filed with the Commission and is available for public inspection.

a. Type of Application: Subsequent Minor License.

b. Project No.: 2622-013.

c. Date filed: February 4, 2019.

d. Applicant: Turners Falls Hydro, LLC (Turners Falls Hydro).

e. Name of Project: Turners Falls Project.

f. Location: On the Connecticut River, in the power canal of the Turners Falls Hydroelectric Project No. 1889, in Franklin County, Massachusetts. No federal lands are occupied by the project works or located within the project boundary.

g. Filed Pursuant to: Federal Power Act 16 U.S.C. 791(a)-825(r).

h. Applicant Contact: Mr. Michael Scarzello, Director, Eagle Creek Renewable Energy, LLC, 65 Madison Avenue, Suite 500, Morristown, NJ 07960; Phone at (973) 998-8400, or email at michael.scarzello@eaglecreekre.com.

i. FERC Contact: Amanda Gill, (202) 502-6773 or amanda.gill@ferc.gov.

j. Deadline for filing scoping comments: August 24, 2019.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2622-013.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: The Turners Falls Project consists of: (1) An existing 10-foot-long, 20-foot-wide, 12- to 22-foot-high forebay; (2) a 20-foot-wide, 22-foot-high trashrack with 1.5-inch clear-bar spacing; (3) two 9.75-foot-wide, 10.3-foot-high headgates; (4) an 8.5-foot-diameter, 50-foot-long steel penstock; (5) a 77-foot-long, 42-foot-wide powerhouse containing one 937-kilowatt vertical Francis-type turbine- generator unit; (6) a 50-foot-long, 10-foot-diameter draft tube; (7) an 80-foot-long, 10-foot-wide tailrace; (8) a 280-foot-long, 2.3-kilovolt generator lead line that connects the generator to a step-up transformer; (9) and appurtenant facilities.

When generating, the project withdraws up to 289 cubic feet per second from FirstLight Hydro Generating Company's (FirstLight) power canal for the Turners Falls Hydroelectric Project No. 1889, and discharges directly into the Connecticut River. Turners Falls Hydro coordinates project operation with FirstLight via an off-license Water Use Agreement, which allows Turners Falls Hydro to generate only when flows within the power canal are greater than 15,000 cubic feet per second (cfs) and the needs of FirstLight's Turners Falls Hydroelectric Project No. 1889 are met. When operating the project, Turners Falls Hydro uses the 289-cfs maximum hydraulic capacity of the turbine for hydroelectric generation and does not fluctuate its water use. The average annual generation of the project is approximately 1,512 megawatt-hours.

Turners Falls Hydro proposes to operate the project either: (1) On a continuous basis between the project's minimum and maximum hydraulic capacities (60 cfs and 289 cfs, respectively), without the operating constraints of the off-license Water Use Agreement with FirstLight; (2) pursuant to the same provisions of the existing Water Use Agreement with FirstLight; or (3) pursuant to a modified Water Use Agreement with FirstLight.

m. A copy of the application is available for review at the Commission in the Public Reference Room or may be viewed on the Commission's website at http://www.ferc.gov using the “eLibrary” link. Enter the docket number excluding the last three digits in the docket number field to access the document. For assistance, contact FERC Online Support. A copy is available for inspection and reproduction at the Montague Public Library, Carnegie Library Branch located at 201 Avenue A, Turners Falls, MA 01376.

n. You may also register online at http://www.ferc.gov/docs-filing/esubscription.asp to be notified via email of new filings and issuances related to this or other pending projects. For assistance, contact FERC Online Support.

o. Scoping Process.

Commission staff intend to prepare a single Environmental Assessment (EA) for the project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued July 25, 2019.

Copies of the SD1 outlining the subject areas to be addressed in the EA were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: July 25, 2019.
Kimberly D. Bose,
Secretary.

[FR Doc. 2019-16274 Filed 7-30-19; 8:45 am]

BILLING CODE 6717-01-P